DEPARTMENT OF COMMERCE

International Trade Administration

[A-533-887]

Carbon and Alloy Steel Threaded Rod From India: Amended Final Determination of Sales at Less Than Fair Value and Antidumping Duty Order

AGENCY: Enforcement and Compliance, International Trade Administration, Department of Commerce.

SUMMARY: Based on affirmative final determinations by the Department of Commerce (Commerce) and the International Trade Commission (ITC), we are issuing an antidumping duty order on carbon and alloy steel threaded rod (threaded rod) from India. Additionally, we are amending our final affirmative determination of sales at less than fair value (LTFV) for carbon and alloy steel threaded rod from India as a result of a ministerial error.

DATES: Applicable April 9, 2020.

FOR FURTHER INFORMATION CONTACT: Annathea Cook or Jerry Huang, AD/CVD Operations, Office V, Enforcement and Compliance, International Trade Administration, U.S. Department of Commerce, 1401 Constitution Avenue NW, Washington, DC 20230, telephone: (202) 482-0250 or (202) 482-4047, respectively.

SUPPLEMENTARY INFORMATION:

Background

In accordance with sections 735(d) and 777(i)(1) of the Tariff Act of 1930, as amended (the Act), and 19 CFR 351.210(c), on February 18, 2020, Commerce published its affirmative final determination in the LTFV investigation of imports of carbon and alloy steel threaded rod from India.¹ On April 3, 2020, the ITC notified Commerce of its final determination, pursuant to section 735(b)(1)(A)(i) of the Act, that an industry in the United States is materially injured by reason of the LTFV imports of carbon and alloy steel threaded rod from India.²

¹ See Carbon and Alloy Steel Threaded Rod from India: Final Affirmative Determination of Sales at Less Than Fair Value, 85 FR 8818 (February 18, 2020) (Final Determination).

² See Letter to Jeffrey Kessler, Assistant Secretary of Commerce for Enforcement and Compliance, from David S. Johanson, Chairman of the U.S. International Trade Commission, regarding steel threaded rod from China and India, (April 3, 2020) (ITC Letter).

Scope of the Order

The merchandise covered by this order is carbon and alloy steel threaded rod from India. For a complete description of the scope of the order, see the appendix to this notice.

Amendment to the Final Determination

A ministerial error is defined as an error in addition, subtraction, or other arithmetic function, clerical error resulting from inaccurate copying, duplication, or the like, and any other similar type of unintentional error which the Secretary considers ministerial.³

³ See section 735(e) of the Act; and 19 CFR 351.224(f).

Pursuant to sections 735(e) of the Act and 19 CFR 351.224(e) and (f), Commerce is amending the Final Determination to reflect the correction of a ministerial error in the final estimated weighted-average dumping margin calculated for Mangal Steel Enterprise Limited (Mangal).⁴ In addition, because Mangal's estimated weighted-average dumping margin forms the basis for the estimated weighted-average dumping margin determined for all other companies, we also are revising the all others margin. The amended estimated weighted-average dumping margins are listed in the “Estimated Weighted-Average Dumping Margins” section below.

⁴ See Memorandum, “Antidumping Duty Investigation of Carbon and Alloy Steel Threaded Rod from India—Ministerial Error Allegation in the Final Determination,” dated March 16, 2020.

Antidumping Duty Order

On April 3, 2020, in accordance with section 735(d) of the Act, the ITC notified Commerce of its final determination in this investigation, in which it found that an industry in the United States is materially injured within the meaning of section 735(b)(1)(A)(i) of the Act by reason of LTFV imports of threaded rod from India.⁵ Therefore, in accordance with sections 735(c)(2) and 736 of the Act, Commerce is issuing this antidumping duty order.

⁵ See ITC Letter.

Because the ITC determined that imports of threaded rod from India are materially injuring a U.S. industry, unliquidated entries of such merchandise from India, entered or withdrawn from warehouse for consumption, are subject to the assessment of antidumping duties. Therefore, in accordance with section 736(a)(1) of the Act, Commerce will direct U.S. Customs and Border Protection (CBP) to assess, upon further instruction by Commerce, antidumping duties equal to the amount by which the normal value of the merchandise exceeds the export price (or constructed export price) of the merchandise, for all relevant entries of threaded rod from China. Antidumping duties will be assessed on unliquidated entries of threaded rod from China entered, or withdrawn from warehouse, for consumption on or after September 25, 2019, the date of publication of the Preliminary Determination,⁶ but will not include entries occurring after the expiration of the provisional measures period and before publication of the ITC's final injury determination as further described below.

⁶ See Carbon and Alloy Steel Threaded Rod from India: Preliminary Affirmative Determination of Sales at Less Than Fair Value, Postponement of Final Determination, and Extension of Provisional Measures, 84 FR 50376 (September 25, 2019) (Preliminary Determination).

Continuation of Suspension of Liquidation

In accordance with section 736 of the Act, Commerce will instruct CBP to continue to suspend liquidation of threaded rod from India as described in the appendix to this notice which are entered, or withdrawn from warehouse, for consumption on or after the date of publication of the ITC's notice of final determination in the Federal Register. These instructions suspending liquidation will remain in effect until further notice.

We will also instruct CBP to require cash deposits equal to the amount as indicated below. Accordingly, effective on the date of publication of the ITC's final affirmative injury determination, CBP will require, at the same time as importers would normally deposit estimated duties on this subject merchandise, a cash deposit equal to the cash deposit rates listed below.⁷ The all others rate applies to all producers or exporters not specifically listed.

⁷ See section 736(a)(3) of the Act.

Estimated Weighted-Average Dumping Margins

The weighted-average dumping margins are as follows:

Exporter/producer | Weighted- average dumping margin (percent) | Cash deposit rate (adjusted for export subsidy offset(s)) (percent)
Daksh Fasteners | 28.34 | 22.86
Mangal Steel Enterprise Limited | 2.75 | 0.00
All Others | 2.75 | 0.00

Provisional Measures

Section 733(d) of the Act states that instructions issued pursuant to an affirmative preliminary determination may not remain in effect for more than four months, except where exporters representing a significant proportion of exports of the subject merchandise request Commerce to extend that four-month period to no more than six months. Because Mangal, accounting for a significant proportion of threaded rod from India, requested an extension of provisional measures,⁸ we extended the four-month period to six months in this proceeding. The period began on September 25, 2019 and ended on March 22, 2020.

⁸ See Mangal's Letter, “Antidumping Investigation of Carbon and Alloy Steel Threaded Rod from India: Request for Postponement of Final Determination,” dated August 21, 2019.

Therefore, in accordance with section 733(d) of the Act and our practice, we will instruct CBP to terminate the suspension of liquidation and to liquidate, without regard to antidumping duties, unliquidated entries of threaded rod from India entered, or withdrawn from warehouse, for consumption after March 22, 2020, the date the provisional measures expired, through the day preceding the date of publication of the ITC's final injury determination in the Federal Register. Suspension of liquidation will resume on the date of publication of the ITC's final determination in the Federal Register.

Notification to Interested Parties

This notice constitutes the antidumping duty order with respect to threaded rod from India pursuant to section 736(a) of the Act. Interested parties can find a list of antidumping duty orders currently in effect at http://enforcement.trade.gov/stats/iastats1.html.

This order is issued and published in accordance with section 736(a) of the Act and 19 CFR 351.211(b).

Dated: April 3, 2020.
Jeffrey I. Kessler,
Assistant Secretary for Enforcement and Compliance.

Appendix—Scope of the Order

The merchandise covered by the scope of this order is carbon and alloy steel threaded rod. Steel threaded rod is certain threaded rod, bar, or studs, of carbon or alloy steel, having a solid, circular cross section of any diameter, in any straight length. Steel threaded rod is normally drawn, cold-rolled, threaded, and straightened, or it may be hot-rolled. In addition, the steel threaded rod, bar, or studs subject to these investigations are non-headed and threaded along greater than 25 percent of their total actual length. A variety of finishes or coatings, such as plain oil finish as a temporary rust protectant, zinc coating (i.e., galvanized, whether by electroplating or hot-dipping), paint, and other similar finishes and coatings, may be applied to the merchandise.

Steel threaded rod is normally produced to American Society for Testing and Materials (ASTM) specifications ASTM A36, ASTM A193 B7/B7m, ASTM A193 B16, ASTM A307, ASTM A320 L7/L7M, ASTM A320 L43, ASTM A354 BC and BD, ASTM A449, ASTM F1554-36, ASTM F1554-55, ASTM F1554 Grade 105, American Society of Mechanical Engineers (ASME) specification ASME B18.31.3, and American Petroleum Institute (API) specification API 20E. All steel threaded rod meeting the physical description set forth above is covered by the scope of this order, whether or not produced according to a particular standard.

Subject merchandise includes material matching the above description that has been finished, assembled, or packaged in a third country, including by cutting, chamfering, coating, or painting the threaded rod, by attaching the threaded rod to, or packaging it with, another product, or any other finishing, assembly, or packaging operation that would not otherwise remove the merchandise from the scope of this order if performed in the country of manufacture of the threaded rod.

Carbon and alloy steel threaded rod are also included in the scope of this order whether or not imported attached to, or in conjunction with, other parts and accessories such as nuts and washers. If carbon and alloy steel threaded rod are imported attached to, or in conjunction with, such non-subject merchandise, only the threaded rod is included in the scope.

Excluded from the scope of this order is: (1) Threaded rod, bar, or studs which are threaded only on one or both ends and the threading covers 25 percent or less of the total actual length; and (2) stainless steel threaded rod, defined as steel threaded rod containing, by weight, 1.2 percent or less of carbon and 10.5 percent or more of chromium, with our without other elements.

Specifically excluded from the scope of this order is threaded rod that is imported as part of a package of hardware in conjunction with a ready-to-assemble piece of furniture.

Steel threaded rod is currently classifiable under subheadings 7318.15.5051, 7318.15.5056, and 7318.15.5090 of the Harmonized Tariff Schedule of the United States (HTSUS). Subject merchandise may also enter under subheading 7318.15.2095 and 7318.19.0000 of the HTSUS. The HTSUS subheadings are provided for convenience and U.S. Customs purposes only. The written description of the scope is dispositive.

[FR Doc. 2020-07481 Filed 4-8-20; 8:45 am]

BILLING CODE 3510-DS-P